DEPARTMENT OF LABOR

Employment and Training Administration

[TA-W-37,904]

Staffing Solutions Colorado Springs, CO; Termination of Investigation

Pursuant to Section 221 of the Trade Act of 1974, an investigation was initiated on July 24, 2000 in response to a worker petition which was filed on behalf of workers at Staffing Solutions, Colorado Springs, Colorado.

An active certification covering the petitioning group of workers is already in effect (TA-W-37,482E, as amended). Consequently, further investigation in this case would serve no purpose, and the investigation has been terminated.

Signed in Washington, DC this 14th day of August, 2000.
Grant D. Beale,
Program Manager, Division of Trade Adjustment Assistance.

[FR Doc. 00-21729 Filed 8-24-00; 8:45 am]

BILLING CODE 4510-30-M